FEDERAL COMMUNICATIONS COMMISSION

47 CFR Part 73

[DA 89-1199; MM Docket No. 88-185; RM-6288, RM-6499, RM-6747]

Radio Broadcasting Services; Montgomery, WV

AGENCY: Federal Communications Commission.

ACTION: Correcting amendments.

SUMMARY: This document editorially amends 47 CFR 73.202(b), the Table of FM Allotments for the community of Montgomery, West Virginia, which was published in the Federal Register of Tuesday, October 10, 1989, (54 FR 41446). The Federal Communications Commission published in the Federal Register, of October 10, 1989, a document which added Channel 227A to Montgomery, West Virginia. See 54 FR 41446. This document amends 47 CFR 73.202(b), the Table of FM Allotments under West Virginia, by adding Montgomery, Channel 227A.

DATES: Effective on July 24, 2003.

FOR FURTHER INFORMATION CONTACT: Rolanda F. Smith, Media Bureau, (202) 418-2180.

SUPPLEMENTARY INFORMATION:

Background

The Federal Communications Commission published a document in the Federal Register of October 10, 1989, (54 FR 41446), which amended Section 73.202(b), the FM Table of Allotments under West Virginia by adding Montgomery, Channel 227A; by adding Channel 233B1 and removing Channel 233A at Dunbar; by removing Mount Gay-Shamrock, Channel 234A; and under Kentucky, by adding Channel 234C3 at Paintsville.

Need for Correction

Part 73 of title 47 of the Code of Federal Regulations no longer contains under Section 73.202(b), the FM Table of Allotments under West Virginia Channel 227A at Montgomery, therefore this community and channel needs to be added to the Code of Federal Regulations.

List of Subjects in 47 CFR Part 73

Radio, Radio broadcasting.

Accordingly, 47 CFR part 73 is amended as follows:

PART 73—RADIO BROADCAST SERVICES

1. The authority citation of part 73 continues to read as follows:

Authority: 47 U.S.C. 54, 303, 334 and 336.

§ 73.202 [Amended]

2. Section 73.202(b), the Table of FM Allotments under West Virginia, is amended by adding Montgomery, Channel 227A.

Federal Communications Commission.
John A. Karousos,
Assistant Chief, Audio Division, Media Bureau.

[FR Doc. 03-18836 Filed 7-23-03; 8:45 am]

BILLING CODE 6712-01-P